FEDERAL MINE SAFETY AND HEALTH REVIEW COMMISSION

Sunshine Act Meeting

July 9, 2013.

TIME AND DATE: 10:00 a.m., Thursday, July 25, 2013.

PLACE: The Richard V. Backley Hearing Room, Room 511N, 1331 Pennsylvania Avenue NW., Washington, DC 20004 (entry from F Street entrance).

STATUS: Open.

MATTERS TO BE CONSIDERED: The Commission will consider and act upon the following in open session: Secretary of Labor v. Lafarge North America, Docket No. CENT 2010-4-M. (Issues include whether the Administrative Law Judge erred by concluding that the operator did not have adequate notice of the Secretary's interpretation of the standard requiring that defective equipment be taken out of service until defects are corrected.)

Any person attending this meeting who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2013-16844 Filed 7-10-13; 4:15 pm]

BILLING CODE 6735-01-P